FEDERAL COMMUNICATIONS COMMISSION

47 CFR Part 64

[CG Docket 03-123; FCC 09-39]

Telecommunications Relay Services and Speech-to-Speech Services for Individuals With Hearing and Speech Disabilities

AGENCY: Federal Communications Commission.

ACTION: Proposed rule.

SUMMARY: In this document, the Commission seeks comment on whether it should adopt new Video Relay Service (VRS) reimbursement rates that reflect the cost data in the fund administrator's recent filing with the FCC, rather than continuing the current rates.

DATES: Comments are due June 4, 2009. Reply comments are due on or before June 11, 2009.

ADDRESSES: Interested parties may submit comments identified by CG Docket No. 03-123, by any of the following methods:

• Federal eRulemaking Portal: http://www.regulations.gov. Follow the instructions for submitting electronic filings.

• Federal Communications Commission's Web Site: http://www.fcc.gov/cgb/ecfs. Follow the instructions for submitting electronic filings. In completing the transmittal screen, filers should include their full name, U.S. Postal Service mailing address, and CG Docket No. 03-123. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

To request materials in accessible formats for people with disabilities (braille, large print, electronic files, audio format), send an e-mail to fcc504@fcc.gov or call the Consumer and Governmental Affairs Bureau at (202) 418-0530 (voice), (202) 418-0432 (TTY). FCC 09-39 can also be downloaded in Word or Portable Document Format (PDF) at: http://www.fcc.gov/cgb/dro/trs.html.

FOR FURTHER INFORMATION CONTACT: Thomas Chandler, Consumer and Governmental Affairs Bureau, Disability Rights Office, at (202) 418-1475 (voice), (202) 418-0597 (TTY), or e-mail: Thomas.Chandler@fcc.gov.

SUPPLEMENTARY INFORMATION: This is a summary of the Commission's Telecommunications Relay Services and Speech-to-Speech Services for Individuals with Hearing and Speech Disabilities, Notice of Proposed Rulemaking, document FCC 09-39, adopted May 12, 2009 and released May 14, 2009 (NPRM), in CG Docket No. 03-123, seeking comment on whether the Commission should adjust VRS rates for the 2009-2010 Fund year. The full text of FCC 09-39 and subsequently filed documents in this matter are available for public inspection and copying during regular business hours at the FCC Reference Information Center, Portals II, 445 12th Street, SW., Room CY-A257, Washington, DC 20554. They may also be purchased from the Commission's duplicating contractor at Portals II, 445 12th Street, SW., Room CY-B402, Washington, DC 20554; the contractor's Web site, http://www.bcpiweb.com; or by calling (800) 378-3160. FCC 09-39 and subsequently filed documents in this matter may also be found by searching ECFS at http://www.fcc.gov/cgb/ecfs (insert CG Docket No. 03-123 into the Proceeding block).

To request materials in accessible formats for people with disabilities (braille, large print, electronic files, audio format), send an e-mail to fcc504@fcc.gov or call the Consumer and Governmental Affairs Bureau at (202) 418-0530 (voice), (202) 418-0432 (TTY). FCC 09-39 can also be downloaded in Word or Portable Document Format (PDF) at: http://www.fcc.gov/cgb/dro/trs.html.

Initial Paperwork Reduction Act of 1995 Analysis

The NPRM does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Synopsis

In the NPRM, the Commission seeks comment on whether it should recalculate the VRS rates established in Telecommunications Relay Services and Speech-to-Speech Services for Individuals with Hearing and Speech Disabilities, Report and Order and Declaratory Ruling, CG Docket No. 03-123, FCC 07-186, published at 73 FR 44170, July 30, 2008 (2007 TRS Rate Methodology Order) for the 2009-2010 Fund year based on recent data reflecting the actual costs of providing this service. The funding requirement for all forms of TRS has grown from approximately $64 million for the 2002-2003 Fund year (the first year VRS was widely offered) to a proposed $890,992,075 for the 2009-2010 Fund year, and VRS continues to represent an increasingly large percentage of the total Fund size (for 2009-2010, 123,844,666 projected minutes of use, with payments totaling approximately $779,873,811, or 87 percent of the total Fund). The NPRM notes that the VRS rates adopted in 2007 may not accurately reflect the providers' reasonable actual costs of providing service in compliance with FCC rules. Current data show that VRS providers' average actual costs per minute were $4.5568 in 2006, $3.9950 in 2007, and $4.1393 in 2008.

The Commission, therefore, seeks comment on whether, for the 2009-2010 Fund year, it should adopt new VRS rates that correlate to providers' cost data, rather than continuing to base rates on the 2007 TRS Rate Methodology Order.

Initial Regulatory Flexability Act

The Regulatory Flexibility Act of 1980, as amended (RFA), requires that an initial regulatory flexibility analysis be prepared for notice-and-comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one that: (1) Is independently owned and operated; (2) is not dominant in its field of operation; and (3) satisfies any additional criteria established by the Small Business Administration (SBA). The NPRM seeks comment on a proposal for recalculating the VRS rates for the 2009-2010 Fund year based on recent data reflecting the actual costs of providing this service. The Commission notes that the funding requirement has grown from approximately $64 million for the 2002-2003 Fund year to a proposed $890,992,075 for the 2009-2010 Fund year, and that VRS continues to represent an increasingly large percentage of the total Fund size (for 2009-2010, 123,844,666 projected minutes of use, with payments totaling approximately $779,873,811, or 87 percent). The Commission also notes that the Fund administrator has indicated that VRS providers' average actual cost per minute was $4.5568 in 2006, $3.9950 in 2007, and $4.1393 in 2008. The Commission now has the benefit of experience with two VRS rate cycles since the adoption of the 2007 TRS Rate Methodology Order, and the VRS rates adopted in that order may not accurately reflect the providers' reasonable actual costs of providing service in compliance with our rules. The Commission therefore seeks comment on whether to adopt new VRS rates that reflect providers' cost data, rather than continue to base rates on the 2007 TRS Rate Methodology Order that may result in the overpayment of providers contrary to section 225 and our rules. The Commission believes this action is consistent with its duty to protect the integrity of the Fund and American consumers who pay into the Fund, and with the statutory mandate to ensure that TRS is offered “in the most efficient manner” to persons with hearing and speech disabilities, 47 U.S.C. 225(b)(1); see also Telecator Network of America v. FCC, 691 F.2d 525, 550 n. 191 (DC Cir. 1982) (“The Commission has an ongoing obligation to monitor its regulatory programs and make adjustments in light of actual experience. * * * This duty to finetune its regulatory approach as more information becomes available is necessarily the price of leeway the courts accord the Commission to pursue plans and policies bottomed on informed prediction.”).

Ordering Clauses

Pursuant to Sections 1, 4(i) and (o), 225, 303(r), 403, 624(g), and 706 of the Communications Act of 1934, as amended, 47 U.S.C. 151, 154(i) and (o), 225, 303(r), 403, 554(g), and 606, the Notice of Proposed Rulemaking is adopted.

The Commission's Consumer and Governmental Affairs Bureau, Reference Information Center, SHALL SEND a copy of the Notice of Proposed Rulemaking, including the Initial Regulatory Flexibility Analysis, to the Chief Counsel for Advocacy of the Small Business Administration.

Federal Communications Commission.
Marlene H. Dortch,
Secretary.

[FR Doc. E9-11934 Filed 5-20-09; 8:45 am]

BILLING CODE 6712-01-P